SECURITIES AND EXCHANGE COMMISSION

[Release No. IC-27229]

Notice of Applications for Deregistration Under Section 8(f) of the Investment Company Act of 1940

February 24, 2006.

The following is a notice of applications for deregistration under section 8(f) of the Investment Company Act of 1940 for the month of February, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on March 21, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-0504.

COMMAND Government Fund [File No. 811-3251]; COMMAND Tax-Free Fund [File No. 811-3252]; COMMAND Money Fund [File No. 811-3253]

Summary: Each applicant seeks an order declaring that it has ceased to be an investment company. On September 27, 2004, each applicant made a liquidating distribution to its shareholders, based on net asset value. Expenses of $9,395, $14,129 and $71,456, respectively, incurred in connection with the liquidations were paid by each applicant.

Filing Date: The applications were filed on February 9, 2006.

Applicant's Address: Gateway Center Three, 100 Mulberry St., Newark, NJ 07102-4077.

Gartmore Mutual Funds II, Inc. [File No. 811-9275]

Summary: Applicant seeks an order declaring that it has ceased to be an investment company. On December 2, 2005, applicant made a liquidating distribution to its shareholders, based on net asset value. Expenses of $82,500 incurred in connection with the liquidation were paid by Gartmore Separate Accounts LLC, applicant's subadviser, and Gartmore Mutual Fund Capital Trust, applicant's investment adviser.

Filing Date: The application was filed on February 15, 2006.

Applicant's Address: 94 North Broadway, Irvington, NY 10533.

World Trust [File No. 811-7399]

Summary: Applicant, a master fund in a master/feeder structure, seeks an order declaring that it has ceased to be an investment company. By December 6, 2005, each of applicant's feeder funds had redeemed their shares at net asset value. Expenses of $18,960 incurred in connection with the liquidation were paid by Ameriprise Financial, Inc., applicant's investment adviser.

Filing Date: The application was filed on February 13, 2006.

Applicant's Address: 901 Marquette Ave. South, Suite 2810, Minneapolis, MN 55402-3268.

The Crowley Portfolio Group, Inc. [File No. 811-5875]

Summary: Applicant seeks an order declaring that it has ceased to be an investment company. On November 28, 2005, applicant made a liquidating distribution to its shareholders, based on net asset value. Expenses of $9,000 incurred in connection with the liquidation were paid by applicant.

Filing Date: The application was filed on January 27, 2006.

Applicant's Address: 3201-B Millcreek Rd., Wilmington, DE 19808.

Leader Mutual Funds [File No. 811-8494]

Summary: Applicant seeks an order declaring that it has ceased to be an investment company. On February 18, 2005, applicant transferred its assets to corresponding series of Regions Morgan Keegan Select Funds and Morgan Keegan Select Fund, Inc., based on net asset value. Expenses of $340,328 incurred in connection with the reorganization were paid by applicant and Morgan Asset Management, Inc., applicant's investment adviser.

Filing Date: The application was filed on February 3, 2006.

Applicant's Address: 3435 Stelzer Rd., Columbus, OH 43219.

Index Plus Fund, Inc. [File No. 811-21170]

Summary: Applicant seeks an order declaring that it has ceased to be an investment company. On January 5, 2006, applicant made a final liquidating distribution to its remaining shareholder, based on net asset value. Expenses of approximately $2,000 incurred in connection with the liquidation were paid by applicant's investment adviser, Adams Asset Advisors, LLC.

Filing Dates: The application was filed on December 5, 2005, and two amendments were filed on February 6, 2006.

Applicant's Address: 8150 N. Central Expressway #101, Dallas, TX 75206.

Centennial America Fund, L.P. [File No. 811-5051]

Summary: Applicant seeks an order declaring that it has ceased to be an investment company. On December 30, 2004, applicant made a liquidating distribution to its shareholders, based on net asset value. Expenses of $1,000 incurred in connection with the liquidation were paid by applicant.

Filing Dates: The application was filed on December 13, 2005, and amended on February 15, 2006.

Applicant's Address: 6803 S Tucson Way, Centennial, CO 80112.

Mercury Variable Trust [File No. 811-8163]

Summary: Applicant seeks an order declaring that it has ceased to be an investment company. Shareholders approved the merger of Applicant's fund on November 17, 2003, and Applicant distributed its assets on November 21, 2003. The fund surviving the merger is the Merrill Lynch International Value V.I. Fund, a series of Merrill Lynch Variable Series Fund, Inc. Legal expenses of $52,138.08 were deducted from Applicant's assets prior to consummation of the merger. Other merger related expenses of approximately $143,597.51 were paid by the Applicant's investment adviser, Fund Assets Management, L.P.

Filing Date: The application was filed on November 30, 2005, as amended.

Applicant's Address: 800 Scudders Mill Road, Plainsboro, NJ 08536.

For the Commission, by the Division of Investment Management, pursuant to delegated authority.
Nancy M. Morris,
Secretary.

[FR Doc. E6-2957 Filed 3-1-06; 8:45 am]

BILLING CODE 8010-01-Pf